DEPARTMENT OF COMMERCE

International Trade Administration

A-201-822

Implementation of the Findings of the WTO Dispute Settlement Panel and Appellate Body in United States - Final Anti-Dumping Measures on Stainless Steel from Mexico: Notice of Determination Under Section 129 of the Uruguay Round Agreements Act

AGENCY: Import Administration, International Trade Administration, Department of Commerce.

SUMMARY: On March 31, 2009, the Department of Commerce (the Department) issued a determination regarding the dumping margin calculation in the less-than-fair-value investigation of stainless steel sheet and strip in coils (stainless steel) from Mexico challenged by Mexico before the World Trade Organization (WTO). On April 23, 2009, the U.S. Trade Representative (USTR) instructed the Department to implement in whole this determination under section 129 of the Uruguay Round Agreements Act (URAA). The Department is now implementing this determination.

EFFECTIVE DATE: The effective date of this determination is April 23, 2009.

FOR FURTHER INFORMATION CONTACT: Deborah Scott or Robert James, AD/CVD Operations, Office 7, Import Administration, International Trade Administration, U.S. Department of Commerce, 14th Street and Constitution Ave., NW, Washington, DC 20230; telephone: (202) 482-2657 or (202) 482-0649, respectively.

SUPPLEMENTARY INFORMATION:

Background

On December 9, 2008, the Department advised interested parties it was initiating a proceeding under section 129 of the URAA to issue a determination with respect to the investigation of stainless steel from Mexico that would implement findings of the WTO dispute settlement panel in United States - Final Anti-Dumping Measures on Stainless Steel from Mexico, WT/DS344/R (December 20, 2007). On January 12, 2009, the Department issued its preliminary results, in which it recalculated the weighted-average dumping margins from the less-than-fair-value investigation of stainless steel from Mexico¹ by applying the calculation methodology described in Antidumping Proceedings: Calculation of the Weighted-Average Dumping Margin During an Antidumping Investigation; Final Modification, 71 FR 77722 (December 27, 2006). The Department also invited interested parties to comment on the preliminary results. After receiving comments and rebuttal comments from interested parties, the Department issued its final results for the section 129 determination on March 31, 2009.

¹ See Notice of Amended Final Determination of Sales at Less Than Fair Value and Antidumping Duty Order; Stainless Steel Sheet and Strip in Coils From Mexico, 64 FR 40560 (July 27, 1999) (Amended Final Determination and Order).

Consistent with section 129(b)(3) of the URAA, USTR held consultations with the Department and the appropriate congressional committees with respect to this determination. On April 23, 2009, in accordance with sections 129(b)(4) and 129(c)(1)(B) of the URAA, USTR directed the Department to implement in whole this determination.

Nature of the Proceedings

Section 129 of the URAA governs the nature and effect of determinations issued by the Department to implement findings by WTO dispute settlement panels and the Appellate Body. Specifically, section 129(b)(2) provides that “notwithstanding any provision of the Tariff Act of 1930,” within 180 days of a written request from USTR, the Department shall issue a determination that would render its actions not inconsistent with an adverse finding of a WTO panel or the Appellate Body. See 19 U.S.C. 3538(b)(2). The Statement of Administrative Action accompanying the URAA (SAA), H.R. Doc. No. 103-316, Vol. 1 (1994), reprinted in 1994 U.S.C.C.A.N. 3773 variously refers to such a determination by the Department as a “new,” “second,” and “different” determination. See SAA at 1025 and 1027. After consulting with the Department and the appropriate congressional committees, USTR may direct the Department to implement, in whole or in part, the new determination made under section 129. See 19 U.S.C. 3538(b)(4). Pursuant to section 129(c), the new determination shall apply with respect to unliquidated entries of the subject merchandise that are entered, or withdrawn from warehouse, for consumption on or after the date on which USTR directs the Department to implement the new determination. See 19 U.S.C. 3538(c). The new determination is subject to judicial review separate and apart from judicial review of the Department's original determination. See 19 U.S.C. 1516a(a)(2)(B)(vii).

Analysis of Comments Received

The issues raised in the case and rebuttal briefs submitted by interested parties to this proceeding are addressed in the final results of proceeding under section 129 of the URAA. See “Issues and Decision Memorandum for the Final Results of Proceeding Under Section 129 of the Uruguay Round Agreements Act: Antidumping Measures on Stainless Steel from Mexico” from John M. Andersen, Acting Deputy Assistant Secretary for Antidumping and Countervailing Duty Operations, to Ronald K. Lorentzen, Acting Assistant Secretary for Import Administration, dated March 31, 2009 (Issues and Decision Memorandum), which is hereby adopted by this notice. The Issues and Decision Memorandum is on file in the Central Records Unit (CRU), room 1117 of the Department of Commerce main building and can be accessed directly at http://ia.ita.doc.gov/download/section129/full-129-index.html. The paper copy and electronic version of the Issues and Decision Memorandum are identical in content. A list of the issues addressed in the Issues and Decision Memorandum is appended to this notice.

Final Antidumping Margins

The recalculated margins, unchanged from the preliminary results, are as follows:

Manufacturer/Exporter | Amended Final Determination² | Recalculated Weighted-Average Margins
ThyssenKrupp Mexinox S.A. de C.V.³ | 30.85 percent | 30.69 percent
All Others | 30.85 percent | 30.69 percent
² See Amended Final Determination and Order, 64 FR at 40562.
³ This company was included in the less-than-fair-value investigation under the name of its predecessor, Mexinox S.A. de C.V. However, the Department subsequently made a formal successor-in-interest finding with respect to this company. See Stainless Steel Sheet and Strip in Coils from Mexico: Final Results of Changed Circumstances Antidumping Duty Administrative Review, 67 FR 48878 (July 26, 2002).

Implementation

On April 23, 2009, in accordance with sections 129(b)(4) and 129(c)(1)(B) of the URAA, USTR directed the Department to implement this determination, effective April 23, 2009. Accordingly, we will instruct U.S. Customs and Border Protection (CBP) to change the all-others cash-deposit rate from 30.85 percent ad valorem to 30.69 percent ad valorem.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This determination is issued and published in accordance with section 129(c)(2)(A) of the URAA.

Dated: April 23, 2009.
Ronald K. Lorentzen,
Acting Assistant Secretary for Import Administration.

Appendix I

Issues Raised in the Issues and Decision Memorandum

Comment 1: Whether the Department Should Recalculate Margins in Eight Administrative Reviews

[FR Doc. E9-9809 Filed 4-28-09; 8:45 am]

BILLING CODE 3510-DS-S